DEPARTMENT OF ENERGY

Federal Energy Regulatory Commission

[Docket No. EL05-84-000]

New York Independent System Operator, Inc.; Notice of Institution of Proceeding and Refund Effective Date

April 19, 2005.

On April 15, 2005, the Commission issued an order initiating a proceeding in Docket No. EL05-84-000 under section 206 of the Federal Power Act to determine whether the Tri-Lakes Agreement and a Conversion Agreement between Niagara Mohawk Power Corporation (Niagara Mohawk), the New York Power Authority and the Villages of Tupper Lake and Lake Placid, as well as the revisions to Niagara Mohawk's Rate Schedule 204 necessary to effectuate these agreements, should be filed under the New York Independent System Operator, Inc. tariff. 111 FERC ¶ 61,048 (2005).

The refund effective date in Docket No. EL05-84-000, established pursuant to section 206 of the Federal Power Act, will be 60 days following publication of this notice in the Federal Register.

Magalie R. Salas,
Secretary.

[FR Doc. E5-2031 Filed 4-27-05; 8:45 am]

BILLING CODE 6717-01-P